DEPARTMENT OF HOMELAND SECURITY

Office of the Secretary

Homeland Security Advisory Council

AGENCY: Office of the Secretary, Department of Homeland Security.

ACTION: Notice of Federal Advisory Committee meeting.

SUMMARY: The Homeland Security Advisory Council (HSAC) will hold its next meeting in Detroit, MI on October 3, 2003. The HSAC will meet for the purposes of: (1) Welcoming and swearing in new members of the HSAC; (2) discussing current HSAC projects, including a proposed Homeland Security award and the Department of Homeland Security (DHS) Lexicon project; (3) touring DHS facilities at the United States/Canada border; (4) receiving briefings from DHS staff on Departmental initiatives; and (5) holding roundtable discussions with and among HSAC members. This meeting will be partially closed; the open portion of the meeting, for purposes of (1) and (2) above will be held in the Cabot Room of the Marriot Renaissance Center, Detroit, from 9 a.m. to 12 p.m. The closed portion of the meeting, for purposes of (4) and (5) above, will be held at the Marriot Renaissance Center from 12 p.m. to 1 p.m. and from 3:15 p.m. to 5 p.m. Due to transportation and building capacity limitations, as well as security concerns, the public will be unable to accompany the HSAC on the DHS facilities tour.

Public Attendance: Members of the public will be registered to attend the public session on a first-come, first-served basis per the procedures that follow. Security requires that any member of the public who wishes to attend the meeting provide his or her name, social security number and date of birth no later than 5 p.m. e.d.t., Thursday, September 25, 2003. Please provide the required information to Mike Miron or Jeff Gaynor of the HSAC staff, via e-mail at HSAC@dhs.gov, or via phone at (202) 692-4283. Persons with disabilities who require special assistance should indicate so in their admittance request. Photo identification will be required for entry into the meeting room, and everyone in attendance must be present and seated by 8:45 a.m.

Basis for Closure: In accordance with section 10(d) of the Federal Advisory Committee Act, Pub. L. 92-463, as amended (5 U.S.C. app. 2), the Secretary has issued a determination that portions of this HSAC meeting will concern matters sensitive to homeland security within the meaning of 5 U.S.C. 552b(c)(7) and (c)(9)(B) and that, accordingly, these portions of the meeting will be closed to the public.

Public Comments: Members of the public who wish to file a written statement with the HSAC may do so by mail to Mike Miron at the following address: Homeland Security Advisory Council, Department of Homeland Security, Washington, DC 20528. Comments may also be sent via e-mail to HSAC@dhs.gov or via fax to (202) 772-9718.

Dated: September 9, 2003.
Tom Ridge,
Secretary.

[FR Doc. 03-23624 Filed 9-16-03; 8:45 am]

BILLING CODE 4410-10-P